DEPARTMENT OF THE INTERIOR

Bureau of Ocean Energy Management

[Docket No. BOEM-2018-0018]

Request for Feedback on BOEM's Proposed Path Forward for Future Offshore Renewable Energy Leasing on the Atlantic Outer Continental Shelf

AGENCY: Bureau of Ocean Energy Management, Interior.

ACTION: Request for feedback.

SUMMARY: The Bureau of Ocean Energy Management (BOEM) invites the public to contribute to the development of a path forward for future renewable leasing offshore the United States Atlantic Coast. Thus far, BOEM has issued 13 commercial leases on the Atlantic from North Carolina to Massachusetts. BOEM is now conducting a high-level assessment of all waters offshore the United States Atlantic Coast for potential additional lease locations. BOEM proposes to rely on various factors described below to help it assess which geographic areas along the Atlantic are the most likely to have highest potential for successful offshore wind development in the next three to five years. BOEM is seeking input on all aspects of its proposed path forward, but particularly on the merits of these factors and any other factors BOEM should consider. This Atlantic assessment is intended to inform future area identification processes, not replace them. Accordingly, after reviewing the comments it receives pursuant to this notice, BOEM plans to coordinate with its intergovernmental renewable energy task forces, and conduct further stakeholder outreach as a part of its continuing area identification efforts.

DATES: Stakeholders should submit comments electronically or postmarked no later than May 21, 2018.

ADDRESSES: Comments should be submitted in one of the two following ways:

1. Electronically: http://www.regulations.gov. In the entry entitled, “Enter Keyword or ID,” search for BOEM-2018-0018. Follow the instructions to submit public comments in response to this document.

2. Written Comments: In written form, delivered by hand or by mail, enclosed in an envelope labeled, “Comments on Request for Feedback” to: Office of Renewable Energy Programs, Bureau of Ocean Energy Management, 45600 Woodland Road, VAM-OREP, Sterling, Virginia 20166.

FOR FURTHER INFORMATION CONTACT: Jeffrey Browning, BOEM Office of Renewable Energy Programs, 45600 Woodland Road, VAM-OREP, Sterling, Virginia 20166, (703) 787-1577 or Jeffrey.Browning@boem.gov; Wright Frank, BOEM Office of Renewable Energy Programs, 45600 Woodland Road, VAM-OREP, Sterling, Virginia 20166, (703) 787-1325 or Wright.Frank@boem.gov.

SUPPLEMENTARY INFORMATION:

Authority: This notice is published pursuant to subsection 8(p) of the Outer Continental Shelf Lands Act (OCSLA) (43 U.S.C. 1337(p)), added by section 388 of the Energy Policy Act of 2005, and the implementing regulations at 30 CFR 585.116.

Overview: In this notice, BOEM has initially identified the following factors to be considered in the analysis contemplated in this notice:

• Areas prohibited by the Outer Continental Shelf Lands Act (OCSLA) for leasing

• Department of Defense (DoD) conflict areas

• Maritime navigation conflict areas

• Areas not previously removed from BOEM leasing consideration

• Areas greater than 10 nautical miles from shore

• Areas shallower than 60 meters in depth

• Areas adjacent to states with offshore wind economic incentives

• Areas adjacent to states that have an interest in identifying additional lease areas

• Areas for which industry has expressed interest

BOEM is aware of many other factors that affect the appropriateness of offshore development, including commercial and recreational fisheries concerns, endangered species critical habitat, recreation and tourism, and other environmental and multiple use concerns. However, unlike the factors identified above, evaluation of these factors requires a detailed, site-specific analysis that would not be practicable on a landscape scale for the entire Atlantic Coast. Accordingly, these factors will be thoroughly evaluated on a case-by-case basis during future Calls for Information and Nominations and Area Identification stages of BOEM's leasing process. This Atlantic assessment, and the development of “forecast areas” as discussed below, will help identify areas where BOEM may focus its leasing efforts over the next three to five years as it collects more detailed, site-specific information to ensure responsible leasing and development of OCS renewable energy resources.

Background and Purpose: BOEM has now completed seven offshore wind lease sales for wind energy areas in the Atlantic Ocean offshore Massachusetts, Rhode Island, New York, New Jersey, Maryland, Virginia, and North Carolina. Each of these sales were the result of processes that BOEM undertook over a period of years to identify and reduce potential conflicts between offshore wind leases and incompatible ocean uses. BOEM has issued thirteen commercial leases (competitively or noncompetitively) in every state with territorial waters bordering the OCS from Massachusetts to North Carolina.

BOEM has received feedback from state and industry stakeholders requesting that BOEM propose additional lease areas. This feedback has been reinforced by increased competition in BOEM's most recent lease sales in New York and North Carolina, as well as a recent increase in the number of unsolicited lease applications submitted to BOEM. In addition, stakeholders have requested that BOEM evaluate the next phase of offshore wind leasing using a regional approach.

BOEM's intent in publishing this Notice is to start a conversation surrounding its approach to future renewable energy leasing on the Atlantic OCS. BOEM believes that additional areas of the Atlantic may be viable for responsible and informed commercial wind development. BOEM seeks input from stakeholders regarding areas where development may or may not be appropriate, and what factors BOEM should consider in the early stages of its future planning processes. This planning exercise is not a replacement for BOEM's existing area identification processes to determine Wind Energy Areas and issue leases through site-specific analysis and stakeholder outreach. BOEM will continue to pursue an area identification process in the future that is more narrowly focused on specifically bounded offshore areas, utilizing extensive analysis of site-specific conditions (e.g., fisheries, navigation, seafloor conditions, etc.). Please refer to the following web page (https://www.boem.gov/Renewable-Energy/Path-Forward/) for details on other opportunities to comment on this Request for Feedback (RFF).

Proposed Factors for Identification of Offshore Wind Forecast Areas: BOEM has preliminarily identified factors that, in BOEM's experience, are likely to help it assess whether a given area is appropriate for offshore wind energy development. Applying these factors to the Atlantic OCS, BOEM plans to identify “forecast areas” along the Atlantic Coast that have the highest probability for offshore wind development. The forecast areas would be those geographic locations on the Atlantic OCS that have multiple positive factors (i.e., factors that may facilitate offshore wind development), thereby indicating a strong likelihood that offshore wind leasing may be feasible in that area. Maps illustrating the application of each of the factors geographically are available at: https://www.boem.gov/Renewable-Energy/Path-Forward/.

Exclusionary Factors

The following factors would be considered exclusionary. At this time, BOEM would consider them as creating “no-go” areas for offshore wind.

OCSLA prohibited areas: Pursuant to the OCSLA, BOEM is prohibited from leasing within the exterior boundaries of a unit of the National Park System, National Wildlife Refuge System, National Marine Sanctuary System, or any National Monument.

DoD conflict areas: At this time, BOEM would not consider leasing areas in the Atlantic designated as “red” by the DoD in its color-coded assessments. DoD has designated these areas as incompatible with wind energy development because of potential conflicts with mission critical operations, training, or testing activities.

Maritime navigation conflict areas: At this time, BOEM would not consider leasing areas within official (i.e., charted) marine vessel traffic routing measures. Later in the Area Identification process, BOEM would conduct a case-specific analysis of maritime vessel traffic information (e.g., automatic identification system data) and might further refine and delineate areas of high traffic use outside of official traffic separation schemes and other routing measures.

Positive Factors

The factors discussed in this section would help BOEM identify the locations that would be considered more favorable for wind energy development. The greater the number of positive factors a location exhibits, the greater the likelihood that location would fall within a forecast area.

Areas not previously removed: Some areas of the OCS were removed from consideration for leasing in BOEM's past Area Identification processes for a variety of different reasons. In most cases, they were removed for reasons that remain applicable today, such as certain high value fishing areas off the coasts of Massachusetts and Rhode Island, essential fish habitat offshore New York, and vessel traffic offshore Maryland and New Jersey. Other areas of the OCS have not been removed from leasing consideration, primarily because they have not been previously evaluated, and may have potential for future wind energy development. The areas that have not been removed from leasing consideration previously are the focus of this factor. However, BOEM asks that stakeholders review the removed areas and comment if they believe BOEM should reconsider their prior removal.

Areas greater than 10 nautical miles (nm) from shore: BOEM recognizes that an offshore wind energy facility may present viewshed concerns for coastal stakeholders. In BOEM's previous area identification efforts, it has imposed various buffer distances from shore to address concerns about potential visual impacts of wind development. The buffers are typically greater than or equal to 10 nm from shore. BOEM requests feedback on whether the 10 nm distance is a reasonable positive factor for this planning exercise.

Areas shallower than 60 meters (m) in depth: Although fixed-bottom substructures currently dominate the global offshore wind market, these structures may not be economically feasible in water depths exceeding 60 m. Therefore, BOEM has chosen 60 m depth as a factor in identifying forecast areas. However, BOEM recognizes the recent development of floating wind turbine technologies that may be deployed in deeper waters. BOEM is specifically requesting comments from stakeholders regarding 60 m depth as a positive factor for the appropriateness of an area for wind energy development, as well as the existence of specific areas or OCS blocks deeper than 60 m that may be appropriate for offshore renewable energy development.

Areas adjacent to states with offshore wind economic incentives: BOEM recognizes that offshore wind development incentives offered by coastal states, such as offshore renewable energy credits or other offtake mechanisms, influence the demand for such development. BOEM has identified the States of Maryland, Massachusetts, Rhode Island, New York, and New Jersey as examples of states that have either a legislative or policy mandate incentivizing additional offshore wind development. Power generation at locations within 60 nm of the coasts of these states may feed into their electric grids, and the state incentives therefore may facilitate offshore wind development.

Areas adjacent to states that have an interest in identifying additional lease areas: State interest in offshore renewable energy leasing has been an important element in BOEM's past identification of Wind Energy Areas. State interest is often expressed through active state engagement with stakeholders through BOEM intergovernmental task forces and other venues. Proactive efforts by coastal states to facilitate stakeholder engagement and discussion of key issues help inform BOEM's identification of Wind Energy Areas. BOEM has identified Massachusetts (only the remaining Massachusetts wind energy areas), New York, and South Carolina as states that have an established intergovernmental task force and are also facilitating stakeholder engagement in support of future offshore wind leasing. BOEM invites Atlantic Coast states to respond to this RFF by specifying their level of interest in future offshore wind leasing within OCS areas adjacent to their coastline.

Areas for which industry has expressed interest: This factor includes areas where offshore wind developers have expressed interest in leasing a specific location. BOEM received these expressions of interest either in response to a Call for Information and Nominations or via an unsolicited lease request. With respect to this factor, BOEM has received two unsolicited lease requests for two wind energy areas offshore Massachusetts (the same areas that did not receive bids in Lease Sale ATLW-4 on January 29, 2015); an unsolicited application for further development offshore New York; and expressions of commercial interest in areas that BOEM has identified offshore North and South Carolina (the Wilmington East and West Wind Energy Areas and the Grand Strand Call Area). As part of this RFF, BOEM requests that developers identify areas along the Atlantic Coast that may be of interest for future offshore wind leasing. This request is not a formal Request for Interest, but rather to inform BOEM's planning efforts for future potential offshore wind leasing.

Areas with resource and locational potential (potential factor): BOEM acknowledges that certain areas of the OCS may have greater commercial potential than others. As described in a recent March 2017 publication (located at http://www.nrel.gov/docs/fy17osti/67675.pdf), the National Renewable Energy Laboratory (NREL) has developed a model predicting the economic potential for specific portions of the OCS. BOEM has identified this as a potential additional factor and has not included it in the evaluation of forecast areas at this time. We are requesting comments on the utility of this study in our planning efforts—and, in particular, which parameter(s) of the NREL models (energy potential, levelized cost of electricity, etc.), if any, would be the most useful in identifying forecast areas.

BOEM is aware of many other factors that affect the appropriateness of offshore development, including commercial and recreational fisheries concerns, endangered species critical habitat, recreation and tourism, and other environmental and multiple use concerns. However, these factors are typically site-specific and will be thoroughly evaluated on a case-by-case basis during any future Calls for Information and Nominations and subsequent Area Identification stages of BOEM's leasing process. BOEM will consider the information received in response to this RFF to finalize the factors it will consider when assessing the areas within which BOEM will focus future planning and leasing efforts. A map of all factors applied to the waters offshore the Atlantic Coast is available at: https://www.boem.gov/Renewable-Energy/Path-Forward/.

Separately, BOEM will continue to consider unsolicited lease requests pursuant to 30 CFR 585.230 for areas both inside and outside of the forecast areas.

Regional Ocean Plans and Data Portals: BOEM encourages commenters to consult the Northeast and Mid-Atlantic Ocean Data Portals, which are key components of the Northeast and Mid-Atlantic Ocean Plans developed by the intergovernmental Regional Planning Bodies (RPB). These data portals are located at http://www.northeastoceandata.org/data-explorer/ and http://portal.midatlanticocean.org/. BOEM believes the use of the Data Portals will lead to a better shared understanding of who or what might be affected by a given proposed activity. In addition to the maps characterizing existing energy and infrastructure activities, the Data Portals contain a range of maps of marine life, habitat areas, cultural resources, transportation, fishing, and other human uses to be considered when new energy or other infrastructure developments are proposed. The Data Portals also help to identify important user groups for further engagement by BOEM during the leasing process, such as commercial and recreational fishermen, commercial transportation providers, and the military, who are most likely to interact with new offshore energy developments.

Protection of Privileged or Confidential Information: BOEM will protect privileged or confidential information that you submit, as provided in the Freedom of Information Act (FOIA). Exemption 4 of FOIA applies to trade secrets and commercial or financial information. If you wish to protect the confidentiality of such information, clearly mark it and request that BOEM treat it as confidential. BOEM will not disclose such information, except as provided in FOIA. Please label privileged or confidential information “Contains Confidential Information” and consider submitting such information as a separate attachment.

BOEM will not treat as confidential any aggregate summaries of such information or comments not containing such information. Additionally, BOEM may not treat as confidential the legal title of the commenting entity (e.g., the name of your company). Information that is not labeled as privileged or confidential may be regarded by BOEM as suitable for public release.

Dated: April 3, 2018.
Walter D. Cruickshank,
Acting Director, Bureau of Ocean Energy Management.

[FR Doc. 2018-07106 Filed 4-4-18; 8:45 am]

BILLING CODE P